DEPARTMENT OF HOUSING AND URBAN DEVELOPMENT

[Docket No. FR-5630-N-08]

Rental Assistance Demonstration (RAD) Notice Regarding Fair Housing and Civil Rights Requirements and Relocation Requirements Applicable to RAD First Component—Public Housing Conversions: Solicitation of Comment

AGENCY: Office of the Assistant Secretary for Housing, HUD.

ACTION: Notice.

SUMMARY: HUD has posted, on its RAD Web page, a notice providing guidance regarding fair housing, civil rights, and relocation requirements applicable to the first component of RAD, which were previously addressed by HUD in a notice issued on June 15, 2015. The first component of RAD pertains only to the conversion of public housing units. The purpose of the Civil Rights and Relocations Requirements notice is to provide greater guidance for the application of these important requirements governing RAD. While the updated requirements are available and became effective upon posting, HUD solicits comment on today's notice, with respect primarily to the clarity and comprehensibility of the requirements.

DATES: Comment Due Date: December 14, 2016.

ADDRESSES: Interested persons are invited to submit comments regarding this notice. Communications must refer to the above docket number and title. There are two methods for submitting public comments.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals who are deaf or hard of hearing and individuals with speech impairments may access this number via TTY by calling the Federal Relay Service toll-free at 800-877-8339. Copies of all comments submitted are also available for inspection and downloading at www.regulations.gov.

FOR FURTHER INFORMATION CONTACT: Claude Dickson, Office of Recapitalization, Office of Multifamily Housing, Office of Housing, U.S. Department of Housing and Urban Development, Room 6230, email RAD@HUD.gov, telephone 202-708-0001 (this is not a toll-free number). For information about this rule, persons with hearing- or speech-impairments may access this number through TTY by calling the Federal Relay Service toll-free at 800-877-8339.

SUPPLEMENTARY INFORMATION:

I. Background

RAD was created in order to give public housing agencies (PHAs) a tool to preserve and improve assisted housing and address the multi-billion dollar nationwide backlog of deferred maintenance. RAD allows public housing agencies to leverage public and private debt and equity in order to reinvest in the public housing stock. In RAD, units move from the public housing program to a Section 8 platform with a long-term contract that, by law, must be renewed. This ensures that the units remain permanently affordable to low-income households. Once transferred to the Section 8 platform, residents continue to pay 30 percent of their income towards the rent and they maintain the same basic rights as they would possess in the public housing program.

On June 15, 2015, HUD issued a comprehensive notice that provided program instructions for RAD, including addressing eligibility and selection criteria. (See http://portal.hud.gov/hudportal/documents/huddoc?id=PIHNotice_2012-32_062015.pdf.) The June 15, 2015 notice itself was an update of prior RAD program notices issued on July 26, 2012, July 2, 2013, and February 6, 2014. The June 15, 2015 notice covered both of the RAD program's two components. (Component 1 applies only to public housing units that may convert to RAD. Component 2 applies to Section 8 Moderate Rehabilitation, Rent Supplement, and Rental Assistance Payment properties that may convert to RAD.) The June 15, 2015 notice addressed fair housing, civil rights, and relocation requirements among the other program instructions. However, given the importance of these requirements, especially as they apply to the types of transactions common in public housing conversions, HUD determined that a notice dedicated solely to fair housing, civil rights, and relocation requirements was appropriate.

Today's relocation notice only addresses RAD Component 1. The notice explains the situations in which HUD is requiring front-end fair housing and civil rights reviews, and provides information regarding the types of information that must be submitted to facilitate HUD's review of certain fair housing and civil rights requirements in connection with public housing conversions under RAD Component 1. The notice also includes guidance regarding relocation requirements under RAD and reiterates key civil rights- and relocation-related statutory and regulatory requirements.

II. Solicitation of Comment

As noted in the Summary of this notice, today's notice is posted and effective but HUD welcomes comments on the notice. The purpose of the notice is to provide greater guidance on compliance with fair housing, civil rights, and relocation requirements. HUD specifically solicits comment on the clarity of the information provided in the notice. In the event HUD makes any changes in response to public comment, HUD will revise the notice and advise the public of any changes made.

Dated: November 8, 2016.
Edward L. Golding,
Principal Deputy Assistant, Secretary for Housing.

[FR Doc. 2016-27348 Filed 11-10-16; 8:45 am]

BILLING CODE 4210-67-P